DEPARTMENT OF COMMERCE

Submission for OMB Review; Comment Request

The Department of Commerce will submit to the Office of Management and Budget (OMB) for clearance the following proposal for collection of information under the provisions of the Paperwork Reduction Act (44 U.S.C. Chapter 35).

Agency: National Oceanic and Atmospheric Administration (NOAA).

Title: Alaska Crab Rationalization Program Cooperative Report.

OMB Control Number: None.

Form Number(s): NA.

Type of Request: Regular submission (request for a new information collection).

Number of Respondents: 10.

Average Hours per Response: 10 hours.

Burden Hours: 100.

Needs and Uses: This request is for a new information collection.

The North Pacific Fisheries Management Council (Council) passed a motion in February 2013 requesting that each cooperative in the Crab Rationalization Program voluntarily provide an annual report to the Council to report on the measures that the cooperative is taking to:

(1) Increase the transfer of quota share to active participants and crew members; and (2) lower currently high lease rates and to increase currently low crew compensation. The annual report should describe the effectiveness of the measures implemented through the cooperatives and the estimated level of member participation in any voluntary measures, and should include supporting information and data. These reports are to be provided to the Council at its October 2013 meeting and every October meeting thereafter.

Affected Public: Business or other for-profit organizations.

Frequency: Annually.

Respondent's Obligation: Voluntary.

OMB Desk Officer: OIRA_Submission@omb.eop.gov.

Copies of the above information collection proposal can be obtained by calling or writing Jennifer Jessup, Departmental Paperwork Clearance Officer, (202) 482-0336, Department of Commerce, Room 6616, 14th and Constitution Avenue NW., Washington, DC 20230 (or via the Internet at JJessup@doc.gov).

Written comments and recommendations for the proposed information collection should be sent within 30 days of publication of this notice to OIRA_Submission@omb.eop.gov.

Dated: July 5, 2013.
Gwellnar Banks,
Management Analyst, Office of the Chief Information Officer.

[FR Doc. 2013-16608 Filed 7-10-13; 8:45 am]

BILLING CODE 3510-22-P